NATIONAL AERONAUTICS AND SPACE ADMINISTRATION

[Notice: (16-069)]

NASA Advisory Council; Science Committee; Heliophysics Subcommittee; Meeting

AGENCY: National Aeronautics and Space Administration.

ACTION: Notice of meeting.

SUMMARY: In accordance with the Federal Advisory Committee Act, Public Law 92-463, as amended, the National Aeronautics and Space Administration (NASA) announces a meeting of the Heliophysics Subcommittee of the NASA Advisory Council (NAC). This Subcommittee reports to the Science Committee of the NAC. The meeting will be held for the purpose of soliciting, from the scientific community and other persons, scientific and technical information relevant to program planning.

DATES: Tuesday, October 25, 2016, 10:00 a.m.-4:00 p.m., Eastern Time.

FOR FURTHER INFORMATION CONTACT: KarShelia Henderson, Science Mission Directorate, NASA Headquarters, Washington, DC 20546, (202) 358-2355, fax (202) 358-2779, or khenderson@nasa.gov.

SUPPLEMENTARY INFORMATION: The meeting will be open to the public telephonically and via WebEx. Any interested person may call the USA toll free conference call number 1-888-625-1623, passcode 5538265, to participate in this meeting by telephone. The WebEx link is https://nasa.webex.com/; the meeting number is 999 356 448 and the password is HPS2016!. The agenda for the meeting includes the following topics:

—Living With a Star (LWS) Vision

—LWS Focus Topics for Research Opportunities in Space and Earth Sciences (ROSES) 2017

It is imperative that the meeting be held on this date to accommodate the scheduling priorities of the key participants.

Patricia D. Rausch,
Advisory Committee Management Officer, National Aeronautics and Space Administration.

[FR Doc. 2016-23657 Filed 9-29-16; 8:45 am]

BILLING CODE 7510-13-P